DEPARTMENT OF ENERGY

Federal Energy Regulation Commission

[Docket No. ER00-3106-000]

Wisvest-Connecticut, LLC; Notice of Application

July 14, 2000.

Take notice that on July 11, 2000, Wisvest-Connecticut, LLC (Wisvest-Connecticut) submitted to the Commission for filing copies of an executed long-term service agreement with Select Energy, Inc.

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions and protests should be filed on or before August 1, 2000. Protests will be considered by the Commission to determine the appropriate action to be taken, but will not serve to make protestants parties to the proceedings. Any person wishing to become a party must file a motion to intervene. copies of this filing are on file with the Commission and are available for public inspection. This filing may also be viewed on the Internet at http://www.ferc.fed.us/online/rims.htm (call 202-208-2222 for assistance).

Linwood A. Watson, Jr.,
Acting Secretary.

[FR Doc. 00-18299 Filed 7-19-00; 8:45 am]

BILLING CODE 6717-01-M